DEPARTMENT OF THE INTERIOR

Bureau of Land Management

[LLNML00000 13300000.BY0000]

Temporary Closure to All Public Use on Public Land in Doña Ana County, NM

AGENCY: Bureau of Land Management, Interior.

ACTION: Notice of temporary closure.

SUMMARY: Notice is hereby given that effective immediately, the Las Cruces District Office is implementing the following closure to all public use, including casual use, to protect person, property, and public land and resources, and generally to provide for public safety. Specifically, the closure is needed in order to reduce or prevent the opportunity for damage to property, personal injury, or loss of life in the vicinity of the Community Pit No.1 in Doña Ana County, New Mexico.

DATES: This closure is effective on June 28, 2010 and shall remain in effect for no more than 2 years. In the interim, the Bureau of Land Management (BLM) will mitigate the safety issue in this area through reclamation of the site.

FOR FURTHER INFORMATION CONTACT: Edward Seum, Supervisory Lands/Minerals Resources Specialist, 1800 Marquess Street, Las Cruces, New Mexico 88005; or call (575) 525-4300.

SUPPLEMENTARY INFORMATION: The closure and restrictions applicable to the closure are as follows:

1. The public land to be closed under this notice is described as:

New Mexico Meridian

T. 22 S., R. 1 E.,

Sec. 19, SW¼NW¼SE¼, E½E½SW¼SW¼SE¼, E½SW¼SE¼, S½N½SE¼SE¼, S½SE¼SE¼.

Doña Ana County, New Mexico, totaling 67.5 acres.

All public use, including casual use, is prohibited on this 67.5-acre parcel. Casual use is defined as any short-term, non-commercial activity which does not noticeably damage or disturb the public land, resources, or improvements.

2. This closure does not affect the ability of local, State, or Federal officials in the performance of their duties in the area, including the discharge of firearms in the performance of their official duties.

3. This Notice will be posted along the public roads where this closure is in effect.

4. The following persons are exempt from this closure order:

a. Federal, State, or local law enforcement officers, while acting within the scope of their official duties; and

b. Any person who obtains, or currently is in possession of, an authorization or permit from the BLM for use of the land identified in this closure.

Violations of these closures and restrictions are punishable by fines not to exceed $1,000 and/or imprisonment not to exceed one year. These actions are taken to protect public health and safety.

The Las Cruces District Office has completed an Environmental Assessment (EA) (DOI-BLM-NM-LCDO-2010-0086-EA) to close the pit to public use, evaluating the potential reclamation of the site and analyzing the hazards to public health and safety until such time as reclamation of the site would be completed.

Copies of this closure order and maps showing the location of the routes are available from the Las Cruces District Office, 1800 Marquess Street, Las Cruces, New Mexico 88005.

Authority: 43 CFR 8364.1 and 18 U.S.C. 3551.

Bill Childress,
Las Cruces District Manager.

[FR Doc. 2010-15623 Filed 6-25-10; 8:45 am]

BILLING CODE 4310-VC-P